DEPARTMENT OF LABOR

Employee Benefits Security Administration

State All Payer Claims Databases Advisory Committee

AGENCY: Employee Benefits Security Administration, Department of Labor.

ACTION: Notice.

SUMMARY: This notice announces the establishment of the State All Payer Claims Databases Advisory Committee (Committee) and also solicits nominations for members to be appointed by the Secretary of Labor (Secretary). The No Surprises Act, enacted as part of the Consolidated Appropriations Act, 2021, requires the Department of Labor (DOL) to establish (and periodically update) a standardized reporting format for voluntary reporting by group health plans to State All Payer Claims Databases and provide guidance to States on collecting data. The Act also directs the Secretary to convene an advisory committee.

DATES: Nominations for membership will be considered if they are received by March 16, 2021.

ADDRESSES: Send nominations to SAPCDACnominations@dol.gov to the attention of Elizabeth Schumacher, Office of Health Plan Standards and Compliance Assistance, Employee Benefits Security Administration, DOL.

FOR FURTHER INFORMATION CONTACT: Elizabeth Schumacher, Employee Benefits Security Administration, DOL at 202-693-8335. For press inquiries contact Grant Vaught, Office of Public Affairs, DOL at 202-693-4672.

SUPPLEMENTARY INFORMATION:

I. Background

Section 735 of the Employee Retirement Income Security Act of 1974, as added by section 115(b) of the No Surprises Act, enacted as part of the Consolidated Appropriations Act, 2021, div. BB, tit. I, Public Law 116-260 (Dec. 27, 2020), requires the DOL to establish (and periodically update) a standardized reporting format for voluntary reporting by group health plans to State All Payer Claims Databases and provide guidance to States on collecting data. The Act also directs the Secretary to convene an advisory committee consisting of no more than 15 members to advise the Secretary regarding the format and guidance for voluntary reporting by group health plans to State All Payer Claims Databases. The Committee will remain in existence from the time of its convention until it submits its report with its recommendations to the Secretary, the Committee on Health, Education, Labor, and Pensions of the Senate, and the Committee on Energy and Commerce and the Committee on Education and Labor of the House of Representatives. The Committee is governed by the provisions of the Federal Advisory Committee Act, 5 U.S.C. App. 2.

II. Charter, General Responsibilities, and Composition of the State All Payer Claims Databases Advisory Committee

A. Charter Information and General Responsibilities

On February 17, 2021, the Acting Secretary approved the charter establishing the Committee. The Committee will advise the Secretary regarding the standardized reporting format for the voluntary reporting by group health plans to State All Payer Claims Databases. Reporting will include medical claims, pharmacy claims, dental claims, and eligibility and provider files collected from private and public payers. The Committee will also advise the Secretary on the guidance provided to States on the process by which States may collect such data in the standardized reporting format.

The Committee must submit a report to the Secretary, the Committee on Health, Education, Labor, and Pensions of the Senate, and the Committee on Energy and Commerce and the Committee on Education and Labor of the House of Representatives that includes recommendations on the establishment of the format and guidance no later than 180 days from the date of enactment of the Consolidated Appropriations Act, 2021, with a due date of June 25, 2021.

A copy of the charter for the Committee may be obtained by visiting the Department's website at https://www.dol.gov/agencies/ebsa/about-ebsa/about-us/state-all-payer-claims-databases-advisory-committee.

B. Composition of the State All Payer Claims Databases Advisory Committee

The Committee shall consist of no more than 15 members appointed by the Secretary (in coordination with the Secretary of Health and Human Services (HHS)), and the Comptroller General of the United States to serve as Regular Government Employee or Special Government Employee members. The Committee shall be composed of the Assistant Secretary of the Employee Benefits Security Administration of DOL, or a designee of such Assistant Secretary; the Assistant Secretary for Planning and Evaluation of the Department of HHS, or a designee of such Assistant Secretary; and members appointed by the Secretary, in coordination with the Secretary of HHS, including: A member to serve as the Committee chair; a representative of the Centers for Medicare & Medicaid Services; a representative of the Agency for Healthcare Research and Quality; a representative of the Office for Civil Rights of the Department of HHS with expertise in data privacy and security; a representative of the National Center for Health Statistics; a representative of the Office of the National Coordinator for Health Information Technology; and a representative of a State All Payer Claims Databases.

Members appointed by the Comptroller General of the United States shall include: A representative of an employer that sponsors a group health plan; a representative of an employee organization that sponsors a group health plan; an academic researcher with expertise in health economics or health services research; a consumer advocate; and two additional members.

Members of the Committee must have distinguished themselves in fields of health services research, health economics, health informatics, data privacy and security, or the governance of State All Payer Claims Databases, or represent organizations likely to submit data to or use the database, including patients, employers, employee organizations that sponsor group health plans, health care providers, health insurance issuers, or third-party administrators of group health plans.

III. Submissions of Nominations

DOL is requesting nominations for a Committee chair and a representative of a State All Payer Claims Databases. DOL will consider qualified individuals who are self-nominated or are nominated by organizations representing affected stakeholders when selecting those representatives. DOL will make every effort to appoint members to serve on the Committee from among those candidates determined to have the technical expertise required to meet specific statutory categories and Departmental needs and in a manner intended to ensure an appropriate balance of membership. Selection of Committee membership will be consistent with achieving the greatest impact, scope, and credibility among diverse stakeholders. The diversity in such membership includes, but is not limited to, race, gender, disability, sexual orientation, and gender identity.

DOL reserves discretion to appoint members to serve on the Committee who were not nominated in response to this notice if necessary to meet specific statutory categories and Departmental needs in a manner intended to ensure an appropriate balance of membership.

DOL has a process for vetting nominees under consideration for appointment. DOL will contact nominees for information on their status as registered lobbyists. Anyone currently subject to federal registration requirements as a lobbyist is not eligible for appointment to this Committee. Additionally, nominees will be evaluated in accordance with Secretary's Order 10-2020 (85 FR 71104) to ensure they are financially independent from the Department programs and activities for which they may be called upon to provide advice. Follow-up communications with nominees may occur as necessary throughout the process.

Any interested person may nominate one or more qualified individuals (self-nominations will also be accepted). Each nomination must include the following information:

1. A letter of nomination that contains contact information for both the nominator and nominee (if not the same).

2. A statement from the nominee that he or she is willing to serve on the Committee if appointed, will attend and participate in Committee meetings regularly, and has no conflicts of interest that would preclude Committee membership.

3. The nominee should also indicate which category or categories of stakeholders designated by the statute he or she is willing to represent, along with an explanation of interest in serving on the Committee. For self-nominations, this information may be included in the nomination letter.

4. A curriculum vitae that indicates the nominee's educational experience, as well as relevant professional experience.

5. Two letters of reference that support the nominee's qualifications for participation on the Committee. For nominations other than self-nominations, a nomination letter that includes information supporting the nominee's qualifications may be counted as one of the letters of reference.

Please do not include information that you do not want publicly disclosed.

To ensure that a nomination is considered, the Department must receive all of the nomination information specified in section III of this notice by March 16, 2021. Nominations should be sent to the address specified in the ADDRESSES section of this notice.

Dated: February 24, 2021.
Ali Khawar,
Principal Deputy Assistant Secretary, Employee Benefits Security Administration, U.S. Department of Labor.

[FR Doc. 2021-04241 Filed 3-1-21; 8:45 am]

BILLING CODE P